DEPARTMENT OF COMMERCE

International Trade Administration

[A-533-824]

Polyethylene Terephthalate Film, Sheet, and Strip From India: Preliminary Results of Antidumping Duty Administrative Review, and Rescission of Review, in Part; 2022-2023

AGENCY: Enforcement and Compliance, International Trade Administration, Department of Commerce.

SUMMARY: The U.S. Department of Commerce (Commerce) preliminarily determines that certain producers and/or exporters subject to this administrative review made sales of subject merchandise at less than normal value during the period of review (POR) July 1, 2022, through June 30, 2023. We are also rescinding the review with respect to certain companies. Interested parties are invited to comment on these preliminary results.

DATES: Applicable August 13, 2024.

FOR FURTHER INFORMATION CONTACT: Jacqueline Arrowsmith or Jacob Saude, AD/CVD Operations, Office VII, Enforcement and Compliance, International Trade Administration, U.S. Department of Commerce, 1401 Constitution Avenue NW, Washington, DC 20230; telephone: (202) 482-5255 or (202) 482-0981, respectively.

SUPPLEMENTARY INFORMATION:

Background

On July 1, 2002, Commerce published the antidumping duty order on polyethylene terepthalate film, sheet, and strip (PET film) from India.¹

¹ See Notice of Amended Final Antidumping Duty Determination of Sales at Less Than Fair Value and Antidumping Duty Order: Polyethylene Terephthalate Film, Sheet, and Strip from India, 67 FR 44175 (July 1, 2002) (Order).

On September 11, 2023, in accordance with 19 CFR 351.221(c)(1)(i), Commerce initiated an administrative review of Cosmo First Ltd. India (Cosmo First), Chiripal Poly Films Limited (Chiripal), Ester Industries Ltd. (Ester), Garware Polyester Ltd. (Garware Polyester),² Jindal Poly Films Ltd., Jindal Poly Films Ltd. (India); Jindal Poly Films, Polyplex Corporation Ltd. (Polyplex), SRF Ltd./SRF Limited of India/SRF Limited Packaging Films (SRF),³ and Vacmet India Limited (Vacmet India).⁴ Commerce selected Jindal and SRF for individual examination as mandatory respondents.⁵ Pursuant to section 751(a)(3)(A) of the Tariff Act of 1930, as amended (the Act), Commerce extended the deadline for the preliminary results until July 30, 2024.⁶ On July 22, 2024, Commerce tolled certain deadlines in this administrative proceeding by seven days.⁷ The deadline for the preliminary results is now August 6, 2024.

² On May 21, 2024, Commerce published its final results of the changed circumstances review (CCR) for Garware Polyester, in which we found that Garware Hi-Tech Films Limited (Garware Hi-Tech) is the successor-in-interest to Garware Polyester. See Polyethylene Terephthalate Film, Sheet, and Strip from India: Final Results of Antidumping Duty Changed Circumstances Review, 89 FR 44638 (May 21, 2024). Because the effective date of the CCR was after the POR of this administrative review, Commerce has continued to refer to the company as Garware Polyester in this review.

³ Commerce erroneously excluded “SRF Limited Packaging Films” as an additional name attributed to SRF in the initiation notice. See Initiation of Antidumping and Countervailing Duty Administrative Reviews, 88 FR 62322 (September 11, 2023) (Initiation Notice). In the last administrative review, Commerce found, based on information provided by SRF, that SRF is most appropriately reviewed as SRF Limited/SRF Limited of India/SRF Limited Packaging Films. See Polyethylene Terephthalate Film, Sheet, and Strip from India: Final Results of Antidumping Duty Administrative Review; Second Correction 2021-2022, 89 FR 7684, 7685 (February 5, 2024).

⁴ See Initiation Notice. Commerce erroneously included Jindal Poly Films Ltd. (India); Jindal Poly Films as a separate company subject to this administrative review. We clarify here that Jindal Poly Films Ltd. and its counsel have identified Jindal as all three names in this proceeding (and past proceedings). As such, Commerce is treating the company as doing business as all three names (i.e., Jindal Poly Films Ltd., Jindal Poly Films Ltd. (India), and Jindal Poly Films. See Jindal's Letter, “Entry of Appearance on Behalf of M/S Jindal Poly Films Limited,” dated February 23, 2024, at 1 (“We are authorized by Jindal Poly Films Limited India”); see also Jindal's Letter, “Submission of Section-A Initial Questionnaire Response,” dated February 23, 2024 at 2 (“. . . could cause substantial harm to Jindal Poly Films”); and Jindal's Letter, “Extension Request to submit Response to Section B to D of Initial Questionnaire for the Producers and/or Exporters of PET Film by Jindal Poly Films Limited,” dated March 7, 2023, at 1 (“On behalf of Jindal Poly Films Limited . . .”).

⁵ See Memorandum, “Respondent Selection,” dated January 31, 2024.

⁶ See Memoranda, “Extension of Deadline for Preliminary Results of Antidumping Duty Administrative Review; 2022-2023,” dated March 19, 2024; and “Extension of Deadline for Preliminary Results of Antidumping Duty Administrative Review,” dated July 9, 2024.

⁷ See Memorandum, “Tolling of Deadlines for Antidumping and Countervailing Duty Proceedings,” dated July 22, 2024.

For a detailed description of the events that followed the initiation of this review, see the Preliminary Decision Memorandum.⁸ A list of topics discussed in the Preliminary Decision Memorandum is attached as an appendix to this notice. The Preliminary Decision Memorandum is a public document and is available via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁸ See Memorandum, “Decision Memorandum for the Preliminary Results of the Administrative Review of the Antidumping Duty Order on Polyethylene Terephthalate Film, Sheet, and Strip from India; 2022-2023,” dated concurrently with, and hereby adopted by, this notice (Preliminary Decision Memorandum).

Scope of the Order

The merchandise subject to the Order is PET film. The product is currently classifiable under subheading 3920.62.00.90 of the Harmonized Tariff Schedule of the United States (HTSUS). Although the HTSUS subheading is provided for convenience and for customs purposes, the written product description remains dispositive. For a complete description of the scope of the Order, see the Preliminary Decision Memorandum.

Partial Rescission of Administrative Review

Pursuant to 19 CFR 351.213(d)(1), Commerce will rescind an administrative review, in whole or in part, if a party who requested the review withdraws the request within 90 days of the date of publication of the notice of initiation. All requests for an administrative review of Cosmo First, Chiripal, Ester, Garware Polyester, Vacmet India, and Polyplex were timely withdrawn.⁹ As a result, in accordance with 19 CFR 351.213(d)(1), we are rescinding this administrative review with respect to these companies. Accordingly, the companies that remain subject to the instant review are Jindal and SRF.

⁹ See Cosmo First's Letter, “Withdrawal Request for Administrative Review of Antidumping Duty of Cosmo First Ltd and Rescind the Antidumping duty Admin Review of Cosmo for the POR July 1, 2022 to June 30, 2023,” dated December 9, 2023; see also Chiripal's Letter, “Withdrawal of Request for Anti-Dumping Duty Admin Review of Chiripal Poly Films Limited (Chiripal),” dated December 11, 2023; DuPont Teijin Films, Mitsubishi Chemical America, Inc.—Polyester Film Division, and SKC, Inc.'s Letter, “Withdrawal of Request for Antidumping Duty Administrative Review,” dated December 11, 2023; Polyplex USA LLC's Letter, “Withdrawal of Request for Review for Polyplex USA LLC,” dated November 29, 2023.

Successor-in-Interest

As part of its section A response, Jindal Poly Films Limited/Jindal Poly Films/Jindal Poly Films Limited India (collectively, Jindal) reported that during the POR, it transferred its “plastic film business” to JPFL Films Private Limited (JPFL).¹⁰ We requested additional information, which Jindal submitted in response to a supplemental questionnaire.¹¹ After analyzing the information on the record of this review, Commerce has determined that further information is required to make a determination as to whether JPFL is the successor-in-interest to Jindal, and we intend to request further information via supplemental questionnaires. Commerce will issue its preliminary findings with respect to this issue subsequent to these preliminary results.

¹⁰ See Jindal's Letters, “Submission of Section-A Initial Questionnaire Response” dated February 23, 2024; and “Submission of Section A and C of First Supplemental Questionnaire Response,” dated May 30, 2024, at 1 (agreeing to make public information relating to transfer of business from Jindal to JPFL).

¹¹ See Jindal's Letter, “Submission of Response to Question 2 of Section A First Supplemental Questionnaire related to the Changed circumstances review,” dated June 10, 2024.

Methodology

Commerce is conducting this review in accordance with sections 751(a)(1)(B) and (2) of the Act. We calculated export price in accordance with section 772(a) of the Act. We calculated normal value in accordance with section 773 of the Act. For a full description of the methodology underlying these preliminary results, see the Preliminary Decision Memorandum.

Preliminary Results of the Review

We preliminarily determine the following estimated weighted-average dumping margins exist for the period July 1, 2022, through June 30, 2023:

Exporter/producer | Weighted- average dumping margin (percent)
Jindal Poly Films Ltd./Jindal Poly Films/Jindal Poly Films Limited India ¹² | 0.00
SRF Ltd./SRF Limited of India/SRF Limited Packaging Films | 1.15

Disclosure and Public Comment

¹² See footnote 3, supra, for explanation of the company name.

Commerce intends to disclose its calculations performed to interested parties for these preliminary results within five days of any public announcement or, if there is no public announcement, within five days of the date of publication of this notice in the Federal Register in accordance with 19 CFR 351.224(b).

Case briefs or other written comments may be submitted to the Assistant Secretary for Enforcement and Compliance.¹³ Commerce will notify interested parties of the deadline for submission of case briefs. Rebuttal briefs, limited to issues raised in the case briefs, may be filed not later than five days after the date for filing case briefs.¹⁴ Interested parties who submit case briefs or rebuttal briefs in this proceeding must submit: (1) a table of contents listing each issue; and (2) a table of authorities.¹⁵

¹³ See 19 CFR 351.309(c)(1)(ii); see also 19 CFR 351.303 for general filing requirements.

¹⁴ See 19 CFR 351.309(d); see also Administrative Protective Order, Service, and Other Procedures in Antidumping and Countervailing Duty Proceedings, 88 FR 67069, 67077 (September 29, 2023) (APO and Service Procedures).

¹⁵ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁶ Further, we request that interested parties limit their public executive summary of each issue to no more than 450 words, not including citations. We intend to use the public executive summaries as the basis of the comment summaries included in the issues and decision memorandum that will accompany the final results in this review. We request that interested parties include footnotes for relevant citations in the public executive summary of each issue. Note that Commerce has amended certain of its requirements pertaining to the service of documents in 19 CFR 351.303(f).¹⁷

¹⁶ We use the term “issue” here to describe an argument that Commerce would normally address in a comment of the Issues and Decision Memorandum.

¹⁷ See APO and Service Procedures.

Pursuant to 19 CFR 351.310(c), interested parties who wish to request a hearing, limited to issues raised in the case and rebuttal briefs, must submit a written request to the Assistant Secretary for Enforcement and Compliance, U.S. Department of Commerce, filed electronically, using ACCESS. Hearing requests should contain the party's name, address, and telephone number, the number of participants, and a list of the issues to be discussed. Issues raised in the hearing will be limited to those raised in the case and rebuttal briefs. An electronically filed request must be received successfully in its entirety by ACCESS by 5:00 p.m. Eastern Time, within 30 days of the publication date of this notice. If a request for a hearing is made, parties will be notified of the time and date of the hearing.¹⁸

¹⁸ See 19 CFR 351.310(d).

Final Results of Review

Unless the deadline is extended pursuant to section 751(a)(3)(A) of the Act and 19 CFR 351.213(h)(2), Commerce intends to issue the final results of this administrative review, including the results of its analysis of the issues raised by the parties in any written briefs, no later than 120 days after the date of publication of these preliminary results.

Assessment Rates

Pursuant to section 751(a)(2)(A) of the Act and 19 CFR 351.212(b)(1), upon issuing the final results, Commerce will determine, and U.S. Customs and Border Protection (CBP) shall assess, antidumping duties on all appropriate entries of subject merchandise covered by this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

If Jindal or SRF's weighted-average dumping margin is not zero or de minimis (i.e., less than 0.50 percent) in the final results of this review, Commerce intends to calculate importer-specific assessment rates on the basis of the ratio of the total amount of dumping calculated for each importer's examined sales to the total entered value of those sales. Where we do not have entered values for all U.S. sales to a particular importer, we will calculate an importer-specific, per-unit assessment rate on the basis of the ratio of the total amount of dumping calculated for the importer's examined sales to the total quantity of those sales.¹⁹ To determine whether an importer-specific, per-unit assessment rate is de minimis, in accordance with 19 CFR 351.106(c)(2), we also will calculate an importer-specific ad valorem ratio based on estimated entered values. If Jindal or SRF's weighted-average dumping margin is zero or de minimis or where an importer-specific ad valorem assessment rate is zero or de minimis, we will instruct CBP to liquidate appropriate entries without regard to antidumping duties.²⁰

¹⁹ See 19 CFR 351.212(b)(1).

²⁰ See 19 CFR 351.106(c)(2); see also Antidumping Proceeding: Calculation of the Weighted-Average Dumping Margin and Assessment Rate in Certain Antidumping Proceedings; Final Modification, 77 FR 8101, 8103 (February 14, 2012).

In accordance with Commerce's “automatic assessment” practice, for entries of subject merchandise during the POR produced by Jindal or SRF for which the respondent did not know that the merchandise was destined for the United States, we intend to instruct CBP to liquidate those entries at the all-others rate in the original less-than-fair-value investigation (i.e., 5.71 percent) if there is no rate for the intermediate company(ies) involved in the transaction.²¹ The final results of this administrative review shall be the basis for the assessment of antidumping duties on entries of merchandise under review and for future cash deposits of estimated antidumping duties, where applicable.

²¹ For a full discussion of this practice, see Antidumping and Countervailing Duty Proceedings: Assessment of Antidumping Duties, 68 FR 23954 (May 6, 2003).

For the companies for which we are rescinding this administrative review, antidumping duties shall be assessed at rates equal to the cash deposit of estimated antidumping duties required at the time of entry, or withdrawal from warehouse, for consumption, during the period of review, in accordance with 19 CFR 351.212(c)(1)(i). For these companies, Commerce intends to issue assessment instructions to CBP no earlier than 35 days after the date of publication of these preliminary results in the Federal Register.

Cash Deposit Requirements

The following cash deposit requirements will be effective for all shipments of subject merchandise entered, or withdrawn from warehouse, for consumption on or after the date of publication of the final results of this administrative review, as provided for by section 751(a)(2)(C) of the Act: (1) the company-specific cash deposit rate for Jindal and SRF will be equal to the weighted-average dumping margin for each company established in the final results of this review (except, if that rate is de minimis within the meaning of 19 CFR 351.106(c)(1), then the cash deposit rate will be zero); (2) for producers or exporters not covered in this review but covered in a prior segment of the proceeding, the cash deposit rate will continue to be the company-specific rate published for the most recently-completed segment of this proceeding in which they were reviewed; (3) if the exporter is not a firm covered in this review or a prior segment of the proceeding but the producer is, then the cash deposit rate will be the rate established for the most recently completed segment of this proceeding for the producer of the merchandise; and (4) the cash deposit rate for all other producers or exporters will continue to be 5.71 percent, the all-others rate established in the less-than-fair-value investigation.²² These cash deposit requirements, when imposed, shall remain in effect until further notice.

²² See Order.

Notification to Importers

This notice also serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of countervailing duties.

Notification to Interested Parties

We are issuing and publishing these preliminary results in accordance with sections 751(a)(1) and 777(i) of the Act, and 19 CFR 351.213(h)(2) and 351.221(b)(4).

Dated: August 6, 2024.
Scot Fullerton,
Acting Deputy Assistant Secretary for Antidumping and Countervailing Duty Operations.

Appendix

List of Topics Discussed in the Preliminary Decision Memorandum

I. Summary

II. Background

III. Scope of the Order

IV. Successor-in-Interest Analysis

V. Discussion of the Methodology

VI. Currency Conversion

VII. Recommendation

[FR Doc. 2024-17998 Filed 8-12-24; 8:45 am]

BILLING CODE 3510-DS-P